DEPARTMENT OF ENERGY

Federal Energy Regulatory Commission

Combined Notice of Filings #2

Take notice that the Commission received the following electric corporate filings:

Docket Numbers: EC17-42-000.

Applicants: 96WI 8ME, LLC.

Description: Application for Authorization for Disposition of Jurisdictional Facilities and Request for Expedited Action of 96WI 8ME, LLC.

Filed Date: 12/2/16.

Accession Number: 20161202-5247.

Comments Due: 5 p.m. ET 12/23/16.

Take notice that the Commission received the following electric rate filings:

Docket Numbers: ER10-2249-005.

Applicants: Portland General Electric Company.

Description: Third Supplement to June 30, 2016 Triennial Market Power Analysis in the Northwest Region for Portland General Electric Company.

Filed Date: 12/2/16.

Accession Number: 20161202-5250.

Comments Due: 5 p.m. ET 12/23/16.

Docket Numbers: ER17-228-002.

Applicants: King Forest Industries, Inc.

Description: Report Filing: Supplemental Information MBR Application to be effective N/A.

Filed Date: 12/1/16.

Accession Number: 20161201-5211.

Comments Due: 5 p.m. ET 12/12/16.

Docket Numbers: ER17-471-000.

Applicants: PJM Interconnection, L.L.C.

Description: § 205(d) Rate Filing: First Revised ISA No. 3255; Queue No. W4-073 to be effective 11/2/2016.

Filed Date: 12/2/16.

Accession Number: 20161202-5159.

Comments Due: 5 p.m. ET 12/23/16.

Docket Numbers: ER17-472-000.

Applicants: ISO New England Inc., New England Power Pool.

Description: ISO New England Inc., et al. submits Installed Capacity Requirement, Hydro Quebec Interconnection Capability Credits and Related Values for the 2017/2018, 2018/2019 & 2019/2020 Annual Reconfiguration Auctions.

Filed Date: 12/1/16.

Accession Number: 20161201-5449.

Comments Due: 5 p.m. ET 12/22/16.

Docket Numbers: ER17-473-000.

Applicants: Southwestern Public Service Company.

Description: § 205(d) Rate Filing: NM Coops Operating Proc No. 2 to be effective 12/1/2016.

Filed Date: 12/2/16.

Accession Number: 20161202-5169.

Comments Due: 5 p.m. ET 12/23/16.

Docket Numbers: ER17-474-000.

Applicants: Public Service Company of New Mexico.

Description: § 205(d) Rate Filing: Modification to TCIA between PNM and Western Interconnect LLC to be effective 12/1/2016.

Filed Date: 12/2/16.

Accession Number: 20161202-5174.

Comments Due: 5 p.m. ET 12/23/16.

Docket Numbers: ER17-475-000.

Applicants: CED Ducor Solar 1, LLC.

Description: § 205(d) Rate Filing: Co-Tenancy and Common Facilities Agreement Filing to be effective 12/2/2016.

Filed Date: 12/2/16.

Accession Number: 20161202-5192.

Comments Due: 5 p.m. ET 12/23/16.

Docket Numbers: ER17-476-000.

Applicants: CED Ducor Solar 2, LLC.

Description: § 205(d) Rate Filing: Co-Tenancy and Common Facilities Agreement Filing to be effective 12/2/2016.

Filed Date: 12/2/16.

Accession Number: 20161202-5228.

Comments Due: 5 p.m. ET 12/23/16.

Docket Numbers: ER17-477-000.

Applicants: CED Ducor Solar 3, LLC.

Description: § 205(d) Rate Filing: Co-Tenancy and Common Facilities Agreement Filing to be effective 12/2/2016.

Filed Date: 12/2/16.

Accession Number: 20161202-5232.

Comments Due: 5 p.m. ET 12/23/16.

Docket Numbers: ER17-478-000.

Applicants: Mankato Energy Center, LLC.

Description: § 205(d) Rate Filing: Mankato Tariff Amendment Filing to be effective 12/3/2016.

Filed Date: 12/2/16.

Accession Number: 20161202-5241.

Comments Due: 5 p.m. ET 12/23/16.

Docket Numbers: ER17-479-000.

Applicants: PJM Interconnection, L.L.C., Virginia Electric and Power Company.

Description: § 205(d) Rate Filing: VEPCO submits revisions to Att. H-16A re Acquisition of Gainesville-Wheeler Line to be effective 2/1/2017.

Filed Date: 12/2/16.

Accession Number: 20161202-5255.

Comments Due: 5 p.m. ET 12/23/16.

Docket Numbers: ER17-480-000.

Applicants: CED Ducor Solar 4, LLC.

Description: Baseline eTariff Filing: Co-Tenancy and Common Facilities Agreement Filing to be effective 12/2/2016.

Filed Date: 12/2/16.

Accession Number: 20161202-5269.

Comments Due: 5 p.m. ET 12/23/16.

Docket Numbers: ER17-481-000.

Applicants: CPV Maryland, LLC.

Description: § 205(d) Rate Filing: Reactive Rate Schedule to be effective 2/1/2017.

Filed Date: 12/2/16.

Accession Number: 20161202-5277.

Comments Due: 5 p.m. ET 12/23/16.

Docket Numbers: ER17-482-000.

Applicants: BREG Aggregator LLC.

Description: Baseline eTariff Filing: Market-Based Authorization Tariff BREG Aggregator LLC to be effective 1/31/2017.

Filed Date: 12/2/16.

Accession Number: 20161202-5291.

Comments Due: 5 p.m. ET 12/23/16.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 2, 2016.
Nathaniel J. Davis, Sr.,
Deputy Secretary.

[FR Doc. 2016-29422 Filed 12-7-16; 8:45 am]

BILLING CODE 6717-01-P